DEPARTMENT OF VETERANS AFFAIRS

[OMB Control No. 2900-0798]

Agency Information Collection Activity: Veteran/Beneficiary Claim for Reimbursement of Travel Expenses; Withdrawn

AGENCY: Veterans Health Administration, Department of Veterans Affairs.

ACTION: Notice; withdrawal.

SUMMARY: On Tuesday, May 14, 2024 the Veterans Health Administration, Department of Veterans Affairs (VA), published a notice in the Federal Register announcing an opportunity for public comment on the proposed collection Veteran/Beneficiary Claim for Reimbursement of Travel Expenses (VA Form 10-3542 and BTSSS). This notice was published in error; therefore, this document corrects that error by withdrawing this FR notice, document number 2024-10461.

DATES: As of May 14, 2024, the FR notice published at 89 FR 42056 on Tuesday, May 14, 2024, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2024-10461, published on May 14, 2024 (89 FR 42056), is withdrawn by this notice.

By direction of the Secretary.
Maribel Aponte,
VA PRA Clearance Officer, Office of Enterprise and Integration/Data Governance Analytics, Department of Veterans Affairs.

[FR Doc. 2024-10898 Filed 5-16-24; 8:45 am]

BILLING CODE 8320-01-P